STATE JUSTICE INSTITUTE

SJI Board of Directors Meeting, Notice

AGENCY: State Justice Institute.

ACTION: Notice of meeting.

SUMMARY: The SJI Board of Directors will be meeting on Monday, March 31, 2014 at 1:00 p.m. The meeting will be held at SJI Headquarters in Reston, Virginia. The purpose of this meeting is to consider grant applications for the 2nd quarter of FY 2014, and other business. All portions of this meeting are open to the public.

ADDRESSES: SJI Headquarters, 11951 Freedom Drive, Suite 1020, Reston, VA 20190, 571-313-8843.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2014-05338 Filed 3-11-14; 8:45 am]

BILLING CODE P